DEPARTMENT OF COMMERCE

National Oceanic and Atmospheric Administration

[RTID 0648-XE285]

South Atlantic Fishery Management Council; Public Meetings

AGENCY: National Marine Fisheries Service (NMFS), National Oceanic and Atmospheric Administration (NOAA), Commerce.

ACTION: Notice of a public meeting.

SUMMARY: The South Atlantic Fishery Management Council's (Council) will hold a meeting of its Scientific and Statistical Committee's Social and Economic Panel (SEP).

DATES: The meeting will be held via webinar on October 7, 2024, from 9 a.m. until 12:30 p.m. Registration is required. Webinar registration, an online public comment form, and briefing book materials will be available two weeks prior to the meetings at: https://safmc.net/scientific-and-statistical-committee-meeting/.

ADDRESSES:

Council address: South Atlantic Fishery Management Council, 4055 Faber Place Drive, Suite 201, N. Charleston, SC 29405.

FOR FURTHER INFORMATION CONTACT: Christina Wiegand, Fishery Social Scientist, SAFMC; phone: (843) 571-4366 or toll free: (866) SAFMC-10; fax: (843) 769-4520; email: christina.wiegand@safmc.net.

SUPPLEMENTARY INFORMATION: The SEP meeting agenda includes an update on Council active amendments and discussion of modifications to the Southeast For-Hire Integrated Electronic Reporting (SEFHIER) Program. Overall compliance with the reporting program is low compared to that previously observed the Gulf of Mexico. The Council has begun discussion on ways to improve compliance, strengthen reporting requirements, and explore data validation, with the goal of utilizing the information being collected in future management decisions. As these discussions continue, the Council is asking for input from the SEP.

Special Accommodations

The meeting is physically accessible to people with disabilities. Requests for auxiliary aids should be directed to the Council office (see ADDRESSES) 5 days prior to the public meeting date.

Note: The times and sequence specified in this agenda are subject to change.

Authority: 16 U.S.C. 1801 et seq.

Dated: September 17, 2024.
Rey Israel Marquez,
Acting Deputy Director, Office of Sustainable Fisheries, National Marine Fisheries Service.

[FR Doc. 2024-21577 Filed 9-19-24; 8:45 am]

BILLING CODE 3510-22-P